DEPARTMENT OF ENERGY

Federal Energy Regulatory Commission

[Docket No. RP01-191-000]

Transcontinental Gas Pipe Line Corporation; Notice of Refund Report

January 9, 2001.

Take notice that on December 15, 2000, Transcontinental Gas Pipe Line Corporation (Transco) filed a report reflecting the flow through of refunds received from Dominion Transmission, Inc.

On December 15, 2000, in accordance with Section 4 of its Rate Schedule LSS and Section 3 of its Rate Schedule GSS, Transco states that it refunded to its LSS and GSS customers $336,777.46 resulting from the refund of Dominion Transmission, Inc. Docket No. TM00-1-22-00. The refund covers the period from November 1999 to June 2000.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before January 16, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us//online/rims.htm (call 202-208-222 for assistance). Comments and protests may be filed electronically via the internet in lieu of paper. See, 18 CFR 385.2001(a)(1)(iii) and the instructions on the Commission's web site at http://www.ferc.fed.us/efi/dorrbell.htm.

David P. Boergers,
Secretary.

[FR Doc. 01-1138 Filed 1-12-01; 8:45 am]

BILLING CODE 6717-01-M